FEDERAL COMMUNICATIONS COMMISSION

47 CFR Part 73

[DA 01-166, MM Docket No. 01-166, RM-10182]

Digital Television Broadcast Service; Calumet, MI

AGENCY: Federal Communications Commission.

ACTION: Final rule.

SUMMARY: The Commission, at the request of Scanlan Television, Inc., licensee of station WBKP-TV, NTSC channel 5, Calumet, Michigan, substitutes DTV channel 11 for DTV channel 18 at Calumet, Michigan. See 66 FR 40959, August 6, 2001. DTV channel 11 can be allotted to Calumet, Michigan, in compliance with the principle community coverage requirements of Section 73.625(a) at reference coordinates (46-26-17 N. and 88-02-58 W.) with a power of 96.2 , HAAT of 388 meters and with a DTV service population of 182 thousand. In addition, since the community of Calumet is located within 400 kilometers of the U.S.-Canadian border, concurrence by the Canadian government has been obtained for this allotment.

With this action, this proceeding is terminated.

DATES: Effective December 13, 2001.

FOR FURTHER INFORMATION CONTACT: Pam Blumenthal, Mass Media Bureau, (202) 418-1600.

SUPPLEMENTARY INFORMATION: This is a synopsis of the Commission's Report and Order, MM Docket No. 01-166, adopted October 26, 2001, and released October 29, 2001. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Michigan, is amended by removing DTV channel 18 and adding DTV channel 11 at Calumet.

Federal Communications Commission.
Barbara A. Kreisman,
Chief, Video Services Division, Mass Media Bureau.

[FR Doc. 01-27638 Filed 11-2-01; 8:45 am]

BILLING CODE 6712-01-P